DEPARTMENT OF HEALTH AND HUMAN SERVICES

Administration for Community Living

Agency Information Collection Activities; Proposed Collection; Public Comment Request; Senior Medicare Patrol (SMP) Program National Beneficiary Survey

AGENCY: Administration for Community Living, HHS.

ACTION: Notice.

SUMMARY: The Administration for Community Living (ACL) is announcing an opportunity for the public to comment on ACL's intention to collect information from the public related to the Senior Medicare Patrol (SMP) Program. Under the Paperwork Reduction Act of 1995 (the PRA), federal agencies are required to publish a notice in the Federal Register concerning each proposed collection of information (including each proposed extension or reinstatement of an existing collection of information) and to allow 60 days for public comment on the proposed action. Interested persons are invited to send comments regarding our burden estimates or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

DATES: Submit written comments by on the collection of information by July 29, 2016.

ADDRESSES: Submit electronic comments on the collection of information to: Katherine.Glendening@acl.hhs.gov. Submit written comments on the collection of information to Katherine Glendening, Administration for Community Living, 330 C Street SW., Washington, DC 20024.

FOR FURTHER INFORMATION CONTACT: Katherine Glendening 202-795-7350.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, ACL is publishing a notice of the proposed collection of information set forth in this document.

Proposed Collection: Evaluation of the Senior Medicare Patrol (SMP) program, U.S. Department of Health and Human Services (HHS), Administration for Community Living (ACL).

Need and Use of Information Collection: The SMP Customer Satisfaction Survey is a survey of individuals who attend Senior Medicare Patrol (SMP) presentations to understand the potential for fraud, waste, and abuse within health care programs generally, and Medicare/Medicaid specifically.

The Senior Medicare Patrol Program (SMP) was created under Titles II and IV of the Older Americans Act, (42 U.S.C. 3032), the amendments of 2006 (Pub. L. 109-365) and the Health Insurance Portability and Accountability Act of 1996 (Pub. L. 104-191). The mission of the SMP program is to empower and assist Medicare beneficiaries, their families, and caregivers to prevent, detect, and report health care fraud, errors, and abuse through outreach, counseling, and education. The SMP program empowers Medicare beneficiaries through increased awareness and understanding of healthcare programs and helps them protect themselves from the economic and health-related consequences of Medicare fraud, waste, and abuse. The SMP program provides services through a national network of SMP grantees that are located in every state, the District of Columbia, Puerto Rico, and Guam. In 2014, SMPs conducted more than 14,000 education session presentations, with a total audience of 450,000 individuals.

The SMP Customer Satisfaction Survey will focus on education session presentations and the individuals who attend them, to determine if the target audience is satisfied with the information they are receiving. While the SMP program currently tracks output and outcome measures such as number of SMP Team members, group outreach and education events, individual interactions and savings, customer satisfaction is not one of them. As a result, there is no current understanding of the link between the quality of the information received and the likelihood to avoid healthcare fraud, errors, and abuse.

The SMP survey will be conducted over a three-year period beginning in Fiscal Year 2017 (FY17), with sites in each of the 50 states, the District of Columbia and the territories of Guam and Puerto Rico being surveyed once during the three-year period. Results from the surveys will be used to understand satisfaction among individuals who attend SMP education sessions, as well as how the program can be improved to provide better service to its target population.

Eighteen (18) unique states will be surveyed in FY17, with each state expected to generate 75 unique responses, for a total of 1,350 individual responses in Year 1. This process will then be replicated in Year 2 (FY18) and Year 3 (FY19), with a different group of 18 states and territories being surveyed each year. By the end of FY19, SMP will obtain 4,050 completed surveys to measure satisfaction at the state and national levels (18 states × 75 responses per state × 3 years). SMP will use the following factors to draw a representative sample of education session attendees:

• Randomly select 18 states and territories to be surveyed each year, with the states stratified by the average number of education session attendees per month.

• Survey a specific site no more than once.

• Sample from at least five presenters in each state.

• Survey no fewer than five events and no more than 20 events in each state.

• Survey no more than two events per month in each state.

To generate a sample with a 95% confidence level at the national level, a minimum of 400 responses will be required, which is based on over 450,000 education session attendees in 2014. SMP anticipates collecting 75 completed surveys per state, for a total collection of 4,050 completed surveys. This larger collection will enable ACL to make state-to-state comparisons, which is an important feature of this survey. It will also provide each state with sufficient information to take local action to improve service within budgetary constraints.

OMB approval is requested for 3 years. There are no costs to respondents other than their time. The average annual burden associated with these activities is summarized below:

Respondent type | Number of respondents | Responses per respondent | Average burden hours per response (hours) | Total average annual burden (hours)
Stratified Random Sample | 1,350 | 1 | 5 minutes | 112.5

Dated: June 21, 2016.
Kathy Greenlee,
Administrator and Assistant Secretary for Aging.

[FR Doc. 2016-15304 Filed 6-28-16; 8:45 am]

BILLING CODE 4151-01-P